DEPARTMENT OF COMMERCE

National Oceanic and Atmospheric Administration

RIN 0648-XE714

Pacific Fishery Management Council; Public Meeting (Webinar)

AGENCY: Marine Fisheries Service (NMFS), National Oceanic and Atmospheric Administration (NOAA), Commerce.

ACTION: Notice of public meeting (webinar).

SUMMARY: The Pacific Fishery Management Council's (Pacific Council's) Coastal Pelagic Species Management Team (CPSMT) will meet via webinar to discuss potential management options for the northern anchovy. The meeting is open to the public.

DATES: The webinar meeting will take place from 10 a.m. to 12 p.m. Pacific Daylight Time, August 3, 2016.

ADDRESSES: The meeting will be held via webinar. A public listening station will also be provided at the Pacific Council office.

Council address: Pacific Council, 7700 NE Ambassador Place, Suite 101, Portland, OR 97220-1384.

FOR FURTHER INFORMATION CONTACT: Kerry Griffin, Staff Officer; telephone: (503) 820-2409.

SUPPLEMENTARY INFORMATION: The primary purpose of the webinar is to solicit comments and questions on a draft white paper being developed by the Pacific Council's CPSMT. The Council will consider the white paper at its September 15-20 meeting in Boise, ID. Public comments during the webinar will be received from attendees at the discretion of the CPSMT Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The listening station is physically accessible to people with disabilities. Requests for sign language interpretation or other auxiliary aids should be directed to Mr. Kris Kleinschmidt at (503) 820-2425, at least 5 days prior to the meeting date.

Dated: July 5, 2016.
Tracey L. Thompson,
Acting Deputy Director, Office of Sustainable Fisheries, National Marine Fisheries Service.

[FR Doc. 2016-16213 Filed 7-7-16; 8:45 am]

BILLING CODE 3510-22-P